DEPARTMENT OF ENERGY

Federal Energy Regulatory Commission

[Project No. 2232-579]

Duke Energy Carolinas, LLC; Notice of Application for Amendment of License and Soliciting Comments, Motions To Intervene, and Protests

June 1, 2010.

Take notice that the following hydroelectric application has been filed with the Commission and is available for public inspection:

a. Application Type: Application for non-project use of project lands and waters.

b. Project No: 2232-579.

c. Date Filed: February 2, 2010, supplemented on April 15, 2010.

d. Applicant: Duke Energy Carolinas, LLC.

e. Name of Project: Catawba-Wateree Hydroelectric Project.

f. Location: Lake James in McDowell County, North Carolina.

g. Filed Pursuant to: Federal Power Act, 16 U.S.C. 791a-825r.

h. Applicant Contact: Kelvin Reagan, Senior Lake Services Representative, P.O. Box 1006, Charlotte, North Carolina, 28201-1006. Tel: (704) 382-9386.

i. FERC Contact: Mark Carter, Telephone (678) 245-3083, and e-mail mark.carter@ferc.gov.

j. Deadline for filing comments, motions to intervene, and protests: July 1, 2010.

Comments, protests, and interventions may be filed electronically via the Internet in lieu of paper. See 18 CFR 385.2001(a)(1)(iii) and the instructions on the Commission's Web site (http://www.ferc.gov) under the “e-filing” link. The Commission strongly encourages electronic filings.

All documents (original and eight copies) should be filed with: Secretary, Federal Energy Regulatory Commission, 888 First Street, NE., Washington, DC 20426. Please include the project number (P-2232-579) on any comments or motions filed.

The Commission's Rules of Practice and Procedure require all interveners filing documents with the Commission to serve a copy of that document on each person whose name appears on the official service list for the project. Further, if an intervener files comments or documents with the Commission relating to the merits of an issue that may affect the responsibilities of a particular resource agency, it must also serve a copy of the document on that resource agency. A copy of any motion to intervene must also be served upon each representative of the Applicant specified in the particular application.

k. Description of Application: The licensee requests Commission approval to grant Crescent Resources, LLC (applicant) a lease of 0.42 acres of land within the project boundary for use as a permanent staging area for the loading and unloading of dirt, rock, and mulch, related to dock building, excavations, and shoreline stabilization at Lake James. The proposed lease area, which is currently a temporary staging area, will be converted to a permanent staging area, and will also be used to build and remove docks from the lake.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-2232) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-13565 Filed 6-7-10; 8:45 am]

BILLING CODE 6717-01-P